DEPARTMENT OF ENERGY

Federal Energy Regulatory Commission

[Docket No. CP25-233-000]

Magnum Gas Storage, LLC; Notice of Schedule for the Preparation of an Environmental Assessment for the 2025 Amendment Project

On April 21, 2025, Magnum Gas Storage, LLC (Magnum) filed an application in Docket No. CP25-233-000 requesting to amend its Certificate of Public Convenience and Necessity (Certificate) issued pursuant to Section 7(c) of the Natural Gas Act for the Magnum Gas Storage Project. The proposed project is known as the 2025 Amendment Project (Project) and includes modification of previously approved facilities, and construction and operation of additional facilities in Millard, Juab, and Utah Counties, Utah for a total of 20.8 billion cubic feet (Bcf) of working natural gas storage capacity.

On April 30, 2025, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹ The EA will be issued for a 30-day comment period.

¹ For tracking purposes under the National Environmental Policy Act, the unique identification number for documents relating to this environmental review is EAXX-019-20-000-1750685312.

Schedule for Environmental Review

Issuance of EA November 13, 2025 90-day Federal Authorization Decision Deadline ² February 11, 2026

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

The proposed Project is an amendment to the FERC Certificate issued on March 17, 2011, and amended on November 17, 2016, and April 23, 2020, (Docket Nos. PF09-3-000, CP10-22-000, CP16-18-000, and CP20-77-000). The proposed modifications consist primarily of changes to the locations of previously approved facilities and utilities within areas previously analyzed for environmental impacts. Magnum requests authorization to redesign the two authorized caverns for 5.2 Bcf of working gas each and to construct and operate two additional storage caverns with 5.2 Bcf of working gas capacity each, one additional brine disposal pond and related facilities, and two new pipeline interconnections.

Background

On June 17, 2025, the Commission issued a Notice of Scoping Period Requesting Comments on Environmental Issues for the Proposed 2025 Amendment Project. (Notice of Scoping). The Notice of Scoping was sent to affected landowners; federal, state, and local government agencies; elected officials; environmental and public interest groups; Native American tribes; other interested parties; and local libraries and newspapers. Prior to the issuance of the Notice of Scoping, the Commission received comments from two landowners. The concerns raised were impacts to adjacent land use, property rights, and lack of adequate project information. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP25-233), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: June 26, 2025.
Carlos D. Clay,
Deputy Secretary.

[FR Doc. 2025-12260 Filed 6-30-25; 8:45 am]

BILLING CODE 6717-01-P